DEPARTMENT OF COMMERCE

International Trade Administration

[C-570-917]

Laminated Woven Sacks From the People's Republic of China: Final Results of the Third Expedited Sunset Review of the Countervailing Duty Order

AGENCY: Enforcement and Compliance, International Trade Administration, Department of Commerce.

SUMMARY: The U.S. Department of Commerce (Commerce) finds that revocation of the countervailing duty (CVD) order on laminated woven sacks from the People's Republic of China (China) would be likely to lead to continuation or recurrence of countervailable subsidies at the levels indicated in the “Final Results of the Sunset Review” section of this notice.

DATES: Applicable November 12, 2024.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On August 7, 2008, Commerce published the order on laminated woven sacks from China.¹ On July 1, 2024, Commerce published the notice of initiation of the third sunset review of the Order, pursuant to section 751(c) of the Tariff Act of 1930, as amended (the Act).² On July 12, 2024, Commerce received a notice of intent to participate from the Laminated Woven Sacks Fair Trade Coalition ³ (the domestic interested party), within the deadline specified in 19 CFR 351.218(d)(1)(i).⁴ The domestic interested party claimed interested party status under section 771(9)(C) of the Act and 19 CFR 351.102(b)(29) as U.S. manufacturers of laminated woven sacks.

¹ See Laminated Woven Sacks from the People's Republic of China: Countervailing Duty Order, 78 FR 39256 (August 7, 2008) (Order).

² See Initiation of Five-Year (Sunset) Reviews, 89 FR 54335 (July 1, 2024).

³ The Laminated Woven Sacks Fair Trade Coalition consists of Polytex Fibers LLC and ProAmpac Holdings Inc.

⁴ See Domestic Interested Party's Letter, “Third Five-Year (“Sunset”) Review of Countervailing Duty Order on Laminated Woven Sacks from the People's Republic of China: Domestic Interested Parties Notice of Intent to Participate,” dated July 12, 2024.

On July 31, 2024, Commerce received an adequate substantive response from the domestic interested party within the 30-day deadline specified in 19 CFR 351.218(d)(3)(i).⁵ Commerce did not receive a substantive response from any government or respondent interested party to this proceeding. On August 21, 2024, Commerce notified the U.S. International Trade Commission that it did not receive an adequate substantive response from respondent interested parties.⁶ As a result, Commerce conducted an expedited (120-day) sunset review of the Order, pursuant to section 751(c)(3)(B) of the Act and 19 CFR 351.218(e)(1)(ii)(B)(2) and (C)(2).

⁵ See Domestic Interested Party's Letter, “Third Five-Year (“Sunset”) Review of Countervailing Duty Order on Laminated Woven Sacks from the People's Republic of China: Domestic Interested Parties Substantive Response,” dated July 31, 2024.

⁶ See Commerce's Letter, “Sunset Reviews for July 2024,” dated August 21, 2024.

Scope of the Order

The merchandise covered by this Order is laminated woven sacks. For a complete description of the scope of the Order, see the Issues and Decision Memorandum.⁷

⁷ See Memorandum, “Issues and Decision Memorandum for the Final Results of the Expedited Sunset Review of the Countervailing Duty Order on Laminated Woven Sacks from China,” dated concurrently with and adopted by this notice (Issues and Decision Memorandum).

Analysis of Comments Received

A complete discussion of all issues raised in this sunset review, including the likelihood of continuation or recurrence of subsidization in the event of revocation of the Order and the countervailable subsidy rates likely to prevail if the Order were to be revoked, is provided in the Issues and Decision Memorandum. A list of the topics discussed in the Issues and Decision Memorandum is attached as an appendix to this notice. The Issues and Decision Memorandum is a public document and is on file electronically via Enforcement and Compliance's Antidumping and Countervailing Duty Centralized Electronic Service System (ACCESS), which is available to registered users at https://access.trade.gov. In addition, a complete version of the Issues and Decision Memorandum can be accessed directly at https://access.trade.gov/public/FRNoticesListLayout.aspx.

Final Results of Sunset Review

Pursuant to sections 751(c) and 752(b) of the Act, Commerce determines that revocation of the Order would likely lead to continuation or recurrence of countervailable subsidies at the following net countervailable subsidy rates:

Producers/exporters | Subsidy rate (percent ad valorem)
Zibo Aifudi Plastic Packaging Co., Ltd. | 83.34
Han Shing Chemical Co., Ltd. | 277.54
Ningbo Yong Feng Packaging Co., Ltd. | 277.54
Shandong Shougang Jianyuan Chun Co., Ltd./Shandong Longxing Plastic Products Company Ltd. | 398.62
Shandong Qilu Plastic Fabric Group, Ltd. | 358.20
All-Others | 280.65

Administrative Protective Order

This notice serves as the only reminder to parties subject to an administrative protective order (APO) of their responsibility concerning the disposition of proprietary information disclosed under APO in accordance with 19 CFR 351.305, which continues to govern business proprietary information in this segment of the proceeding. Timely notification of the return or destruction of APO materials or conversion to judicial protective order is hereby requested. Failure to comply with the regulations and the terms of an APO is a sanctionable violation.

Notification to Interested Parties

Commerce is issuing and publishing these final results and this notice in accordance with sections 751(c), 752(b), and 777(i)(1) of the Act and 19 CFR 351.218.

Dated: November 5, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2024-26180 Filed 11-8-24; 8:45 am]

BILLING CODE 3510-DS-P